DEPARTMENT OF AGRICULTURE

Submission for OMB Review; Comment Request

July 10, 2017.

The Department of Agriculture has submitted the following information collection requirement(s) to Office of Management and Budget (OMB) for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; (4) ways to minimize the burden of the collection of information on those who are to respond, including through the use of appropriate automated, electronic, mechanical, or other technological collection techniques or other forms of information technology.

Comments regarding this information collection received by August 14, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Utilities Service

Title: RUS Form 87, Request for Mail List Data.

OMB Control Number: 0572-0051.

Summary of Collection: The Rural Utilities Service (RUS) is a credit agency of the U.S. Department of Agriculture. The agency makes loans (direct and guaranteed) to finance electric and telecommunications facilities in rural areas in accordance with the Rural Electrification Act of 1936, 7 U.S.C. 901 as amended, (ReAct). RUS Electric Program provides support to the vast rural American electric infrastructure. RUS' Telecommunications Program makes loans to furnish and improve telephone services and other telecommunications purposes in rural areas.

Need and Use of the Information: RUS will collect information using RUS Form 87, Request for Mail List Data. The information is used for the RUS Electric and Telephone programs to obtain the name and addresses of the borrowers' officers/board of directors and corporate officials, who are authorized to sign official documents and/or to make official representations concerning borrower operations and management. RUS uses the information to assure that (1) accurate, current, and verifiable information is available; (2) correspondence with borrowers is properly directed; and (3) the appropriate officials have signed the official documents submitted. Failure to collect information from borrowers could result in failure to protect the government's security interest when determining eligibility and administering loan programs.

Description of Respondents: Not-for-profit institutions; Business or other for-profit.

Number of Respondents: 980.

Frequency of Responses: Reporting: On occasion.

Total Burden Hours: 245.

Rural Utilities Service

Title: Technical Assistance Program, 7 CFR part 1775.

OMB Control Number: 0572-0112.

Summary of Collection: Section 306 of the Consolidated Farm and Rural Development Act (CONACT), 7 U.S.C. 1926, authorizes Rural Utilities Service (RUS) to make loans and grants to public agencies, American Indian tribes, and nonprofit corporations. The loans and grants fund the development of drinking water, wastewater, and solid waste disposal facilities in rural areas with populations of up to 10,000 residents. Nonprofit organizations receive Technical Assistance and Training (TAT) and Solid Waste Management (SWM) grants to help small rural communities or areas identify and solve problems relating to community drinking water, wastewater, or solid waste disposal systems. The technical assistance is intended to improve the management and operation of the systems and reduce or eliminate pollution of water resources. TAT and SWM are competitive grant programs administered by RUS.

Need and Use of the Information: Nonprofit organizations applying for TAT and SWM grants must submit a pre-application, which includes an application form, narrative proposal, various other forms, certifications and supplemental information. RUS will collect information to determine applicant's eligibility, project feasibility, and the applicant's ability to meet the grant and regulatory requirements. RUS will review the information, evaluate it, and, if the applicant and project are eligible for further competition, invite the applicant to submit a formal application. Failure to collect proper information could result in improper determinations of eligibility, improper use of funds, or hindrances in making grants authorized by the TAT and SWM program.

Description of Respondents: Not-for-profit institutions; State, Local or Tribal Governments.

Number of Respondents: 82.

Frequency of Responses: Reporting: On occasion; Quarterly.

Total Burden Hours: 6,369.

Rural Utilities Service

Title: Public Television Digital Transition Grant Program.

OMB Control Number: 0572-0134.

Summary of Collection: Beginning in 2003 the Omnibus Appropriations Act (Public Law 108-7) provided grant funds in the Distance Learning and Telemedicine Grant Program budget, the Consolidated Appropriations Act (Public Law 108-199) and the Consolidated Appropriations Act, 2005 (Public Law 108-447) provided additional funds for public broadcasting systems to meet the digital transition. As part of the nation's transition to digital television, the Federal Communications Commission (FCC) required all television broadcasters to initiate the broadcast of a digital television signal and to cease analog television broadcasts on February 18, 2009. While stations must broadcast its main transmitter signal in digital, many rural stations often have translators serving small or isolated areas and some of these have not completed the transition to digital or fully converted its production and studio equipment to digital. Because the FCC deadline did not apply to translators, they are allowed to continue broadcasting in analog. The digital transition also created some service gaps where households receiving an analog signal cannot receive a digital signal. For these reasons the grant program has continued past the FCC digital transition deadline until 2014. The Public Television Digital Transition Grant Program is no longer funded.

Need and Use of the Information: There are past awardees that remain in the program and the Agency continues to collect information from them. Awardees still in the program must complete SF-475 “Federal Financial Report” to submit financial information and SF-270 “Request for Advance or Reimbursement” to request payments. If this information is not collected, there would be no basis advancing grant funds to the grant recipients or for ensuring that the project funding is used for intended purposes.

Description of Respondents: Not-for-profit institutions.

Number of Respondents: 15.

Frequency of Responses: Reporting: On occasion.

Total Burden Hours: 1 hour place holder.

Ruth Brown,
Departmental Information Collection Clearance Officer.

[FR Doc. 2017-14681 Filed 7-12-17; 8:45 am]

BILLING CODE 3410-15-P